DEPARTMENT OF TRANSPORTATION

Federal Aviation Administration

RTCA; Special Committee 195; Flight Information Services Communications (FISC)

Pursuant to section 10(a)(2) of the Federal Advisory Committee Act (P.L. 92-463, 5 U.S.C., Appendix 2), notice is hereby given for Special Committee (SC)-195 meeting to be held June 6-8, 2000, starting at 8:30 a.m. each day. The meeting will be held at RTCA, Inc., 1140 Connecticut Avenue NW, Suite 1020, Washington, DC 20036.

The agenda will include:

June 6

Plenary convenes for 30 minutes:

(1) Welcome and Introductions;

(2) Agenda Overview

(3) Working Group (WG) 1, Aircraft Cockpit Weather Display

1 p.m. Plenary Reconvenes

(4) Review of Previous Meeting Minutes

(5) Report from WG-1 on Activities;

(6) Review of FIS-B Minimum Aviation System Performance Standards (MASPS) section 4.0, Procedures for Performance Requirement Verification, Development

June 7

(7) Review of FIS-B MASPS section 3.2.1, FIS Broadcast Network Interface and Appendix D, APDU Header Format

Detailed Review of FIS-B MASPS.

June 8

(8) Continue Detailed Review of FIS-B MASPS

(9) Address Future Work

(10) Review Issues (Action Items)

(11) Date and Location of Next Meeting

(12) Other Business

(13) Closing.

Attendance is open to the interested public but limited to space availability. With the approval of the chairman, members of the public may present oral statements at the meeting. Persons wishing to present statements or obtain information should contact the RTCA Secretariat, 1140 Connecticut Avenue NW, Suite 1020, Washington, DC 20036; (202) 833-9339 (phone); (202) 833-9434 (fax); or http://www.rtca.org (web site). Members of the public may present a written statement to the committee at any time.

Issued in Washington, DC, on May 5, 2000.
Janice L. Peters,
Designated Official.

[FR Doc. 00-12169 Filed 5-12-00; 8:45 am]

BILLING CODE 4910-13-M